DEPARTMENT OF AGRICULTURE

Animal and Plant Health Inspection Service

[Docket No. APHIS-2014-0021]

Notice of Availability of Pest Risk Analyses for the Importation of Chipilin Leaves and Edible Flowers of Chufle, Izote, and Pacaya From Guatemala Into the Continental United States

AGENCY: Animal and Plant Health Inspection Service, USDA.

ACTION: Notice of availability.

SUMMARY: We are advising the public that we have prepared pest risk analyses that evaluate the risks associated with importation of chipilin leaves and edible flowers of chufle, izote, and pacaya from Guatemala into the continental United States. Based on these analyses, we have determined that the application of one or more designated phytosanitary measures will be sufficient to mitigate the risks of introducing or disseminating plant pests or noxious weeds via the movement of chipilin leaves and edible flowers of chufle, izote, and pacaya from Guatemala. We are making these documents available to the public for review and comment.

DATES: We will consider all comments that we receive on or before September 8, 2014.

ADDRESSES: You may submit comments by either of the following methods:

• Federal eRulemaking Portal: Go to http://www.regulations.gov/#!docketDetail;D=APHIS-2014-0021.

• Postal Mail/Commercial Delivery: Send your comment to Docket No. APHIS-2014-0021, Regulatory Analysis and Development, PPD, APHIS, Station 3A-03.8, 4700 River Road, Unit 118, Riverdale, MD 20737-1238.

Supporting documents and any comments we receive on this docket may be viewed at http://www.regulations.gov/#!docketDetail;D=APHIS-2014-0021 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Ms. Claudia Ferguson, Senior Regulatory Policy Coordinator, Regulatory Coordination and Compliance, Regulations, Permits and Manuals, PPQ, APHIS, 4700 River Road, Unit 133, Riverdale, MD 20737-1231; (301) 851-2352.

SUPPLEMENTARY INFORMATION: Under the regulations in “Subpart-Fruits and Vegetables” (7 CFR 319.56-1 through 319.56-68, referred to below as the regulations), the Animal and Plant Health Inspection Service (APHIS) prohibits or restricts the importation of fruits and vegetables into the United States from certain parts of the world to prevent the introduction and dissemination of plant pests that are new to or not widely distributed within the United States.

Section 319.56-4 contains a performance-based process for approving the importation of certain fruits and vegetables that, based on the findings of a pest risk analysis, can be safely imported subject to one or more of the phytosanitary measures listed in paragraph (b) of that section.

APHIS received a request from the national plant protection organization (NPPO) of Guatemala to allow the importation of chipilin leaves (Crotalaria longirostrata) and edible flowers of chufle (Calathea macrosepala), izote (Yucca guatemalensis), and pacaya (Chamaedorea tepejilote) into the continental United States.

As part of our evaluation of Guatemala's request, we have prepared pest risk assessments (PRAs) to identify pests of quarantine significance that could follow the pathway of importation into the continental United States from Guatemala and, based on the PRAs, risk management documents (RMDs) to identify phytosanitary measures that could be applied to the commodities to mitigate the pest risk. (The PRAs evaluating the pest risks for chipilin leaves, chufle, and pacaya were originally drafted for a market access request from El Salvador; however, these PRAs also address the risks associated with importing these commodities from Guatemala.) We have concluded that chipilin leaves and edible flowers of chufle, izote, and pacaya can be safely imported from Guatemala to the continental United States using one or more of the five designated phytosanitary measures listed in § 319.56-4(b). These measures are:

• The commodities must be imported as commercial consignments only;

• Each consignment must be accompanied by a phytosanitary certificate issued by the NPPO of Guatemala; and

• Each consignment is subject to inspection upon arrival at the port of entry to the United States.

Therefore, in accordance with § 319.56-4(c), we are announcing the availability of our PRAs and RMDs for public review and comment. The documents may be viewed on the Regulations.gov Web site or in our reading room (see ADDRESSES above for a link to Regulations.gov and information on the location and hours of the reading room). You may request paper copies of the PRAs and RMDs by calling or writing to the person listed under FOR FURTHER INFORMATION CONTACT. Please refer to the subject of the analysis you wish to review when requesting copies.

After reviewing any comments we receive, we will announce our decision regarding the import status of chipilin leaves and edible flowers of chufle, izote, and pacaya from Guatemala in a subsequent notice. If the overall conclusions of our analyses and the Administrator's determination of risk remain unchanged following our consideration of the comments, then we will authorize the importation of chipilin leaves and edible flowers of chufle, izote, and pacaya from Guatemala into the continental United States subject to the requirements specified in the RMDs.

Authority: 7 U.S.C. 450, 7701-7772, and 7781-7786; 21 U.S.C. 136 and 136a; 7 CFR 2.22, 2.80, and 371.3.

Done in Washington, DC, this 1st day of July 2014.
Kevin Shea,
Administrator, Animal and Plant Health Inspection Service.

[FR Doc. 2014-15866 Filed 7-7-14; 8:45 am]

BILLING CODE 3410-34-P